ENVIRONMENTAL PROTECTION AGENCY

[FRL-7998-2]

EPA Accepting Nominations for the Children's Health Protection Advisory Committee

AGENCY: Environmental Protection Agency (EPA).

ACTION: Notice.

SUMMARY: The U.S. Environmental Protection Agency invites nominations of qualified candidates to be considered for appointments to fill specific vacancies on the Children's Health Protection Advisory Committee (CHPAC). Nominations are sought in the following two areas: Experience relating to children's environmental health on Tribal lands and experience with children's environmental health in public health nursing. In addition to this notice other avenues may be used to identify potential candidates.

Deadline for receiving nominations is Friday, December 2, 2005. Please submit a resume or curriculum vitae with each nomination via mail or e-mail to the addresses below. Appointments will be made by the Administrator of the Environmental Protection Agency.

FOR FURTHER INFORMATION CONTACT: Joanne Rodman, Designated Federal Officer, Office of Children's Health Protection, USEPA, MC 1107A, 1200 Pennsylvania Avenue, NW., Washington, DC 20460, (202) 564-2188, rodman.joanne@epa.gov.

SUPPLEMENTARY INFORMATION: The Children's Health Protection Advisory Committee is a body of researchers, academicians, health care providers, environmentalists, children's advocates, professionals, government employees, and members of the public who advise EPA on regulations, research, and communication issues relevant to children. For additional information go to: http://yosemite.epa.gov/ochp/ochpweb.nsf/content/whatwe_advisory.htm.

Dated: November 10, 2005.
Joanne Rodman,
Designated Federal Official.

[FR Doc. 05-22818 Filed 11-16-05; 8:45 am]

BILLING CODE 6560-50-U